DEPARTMENT OF EDUCATION

34 CFR Parts 700, 701, and 702

Removal of Regulations

AGENCY: Institute of Education Sciences, Department of Education.

ACTION: Final regulations.

SUMMARY: The Secretary amends the Code of Federal Regulations to remove obsolete regulations. As a result of enactment of the Education Sciences Reform Act of 2002, these regulations are no longer needed. The Secretary therefore takes this action to remove the regulations.

DATES: Parts 700, 701, and 702 are removed effective December 27, 2002.

FOR FURTHER INFORMATION CONTACT: Elizabeth Payer, U.S. Department of Education, 555 New Jersey Avenue, NW., room 502e, Washington, DC 20208. Telephone: (202) 219-1310.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLMENTARY INFORMATION: As a result of enactment of the Education Sciences Reform Act of 2002, Title I of Public Law 107-279, enacted November 5, 2002, the regulations at 34 CFR parts 700, 701, and 702 are removed because they are no longer necessary. The removal of these regulations does not alter the obligations of current recipients of Federal funds. The regulations in effect when a grant or other agreement is made govern that grant or agreement, unless otherwise specifically provided.

The regulations removed are:

(1) Standards for the Conduct and Evaluation of Activities Carried Out by the Office of Educational Research and Improvement (OERI)—Evaluation of Applications for Grants and Cooperative Agreements and Proposals for Contracts (34 CFR part 700);

(2) Standards for Conduct and Evaluation of Activities Carried Out by the Office of Educational Research and Improvement (OERI)—Designation of Exemplary and Promising Programs (34 CFR part 701); and

(3) Standards for the Conduct and Evaluation of Activities Carried Out by the Office of Educational Research and Improvement (OERI)—Evaluation of the Performance of Recipients of Grants, Cooperative Agreements, and Contracts (34 CFR part 702).

Waiver of Proposed Rulemaking

In accordance with the Administrative Procedure Act (5 U.S.C. 553), it is the practice of the Secretary to offer interested parties the opportunity to comment on proposed regulations. However, this document merely removes obsolete regulations from the Code of Federal Regulations. Removal of the regulations does not establish or affect substantive policy. Therefore, the Secretary has determined pursuant to 5 U.S.C. 553(b)(B), that public comment is unnecessary and contrary to the public interest.

Paperwork Reduction Act of 1995

These regulations do not contain any information collection requirements.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance number does not apply.)

List of Subjects

34 CFR Part 700

Education, Educational research, Elementary and secondary education, Government contracts, Grant programs—education, Libraries, Reporting and recordkeeping requirements.

34 CFR Part 701

Education, Educational research, Reporting and recordkeeping requirements.

34 CFR Part 702

Education, Educational research, Reporting and recordkeeping requirements.

Dated: December 23, 2002.
Grover J. Whitehurst,
Director, Institute of Education Sciences.

PARTS 700, 701, AND 702—[REMOVED]

For the reasons stated in the preamble, under the authority at 20 U.S.C. 1221e-3 and 20 U.S.C. 9501 et seq., the Secretary amends Title 34 of the Code of Federal Regulations by removing parts 700, 701, and 702.

[FR Doc. 02-32716 Filed 12-26-02; 8:45 am]

BILLING CODE 4000-01-P